Title 3—

The President

Proclamation 9906 of June 14, 2019

Father's Day, 2019

By the President of the United States of America

A Proclamation

On Father's Day, we celebrate and honor the men who have embraced the essential role of fatherhood. Through acts of selflessness, determination, and love, fathers and father figures enrich and bless all of our lives. Today, we thank them for boldly embracing the tremendous responsibility of raising our Nation's children to be happy, productive, and responsible adults, and for their ceaseless devotion to their families.

As children, we take comfort in the presence and companionship of fathers, and we are strengthened by their encouragement as we prepare to confront future challenges. Throughout life, we draw courage from our father's firm and loving guidance and example. With the values they instill in us, they encourage us to live a life of virtue and exercise good judgment as we enter into adulthood and have families of our own.

Children of all ages benefit in countless ways from a father's ongoing presence and involvement. A father's time, attention, and mentorship are crucial to the physical, emotional, and spiritual growth of his child. Our Nation heralds the dignity of fatherhood, a father's role in developing children's character, and the indispensable influence fathers have on their children and our communities.

Increasingly, research has shown that children with involved fathers are more likely to have healthy self-esteem, do well in school, and make higher salaries as adults. This is one reason why my Administration is committed to promoting the role of fathers and father figures in ensuring the growth, development, and well-being of America's youth. We support the continuance of grant funding to organizations across our country that promote responsible fatherhood by helping fathers to strengthen their relationships with their children and to seek and retain gainful employment to provide a stable home life for their families.

On this day, we thank all amazing fathers for their unending dedication and leadership. They impact countless lives in such important and powerful ways. We express our heartfelt love and appreciation to fathers, whether their children are by birth, adoption, or foster care, for the many sacrifices they have made to ensure that their children have every opportunity to reach their full potential in life.

NOW, THEREFORE, I, DONALD J. TRUMP, President of the United States of America, in accordance with a joint resolution of the Congress approved April 24, 1972, as amended (36 U.S.C. 109), do hereby proclaim June 16, 2019, as Father's Day. I call on United States Government officials to display the flag of the United States on all Government buildings on Father's Day and invite State and local governments and the people of the United States to observe Father's Day with appropriate ceremonies.

IN WITNESS WHEREOF, I have hereunto set my hand this fourteenth day of June, in the year of our Lord two thousand nineteen, and of the Independence of the United States of America the two hundred and forty-third.

[FR Doc. 2019-13173

Filed 6-18-19; 11:15 am]

Billing code 3295-F9-P